FEDERAL COMMUNICATIONS COMMISSION

[CG Docket No. 03-123; DA 08-607]

Consumer & Governmental Affairs Bureau Seeks To Refresh Record on Assigning Internet Protocol (IP)-Based Telecommunications Relay Service (TRS) Users' Ten-Digit Telephone Numbers Linked to North American Numbering Plan (NANP) and Related Issues

AGENCY: Federal Communications Commission.

ACTION: Notice.

SUMMARY: In this document, the Commission seeks to refresh the record on the numbering issue identified in the Commission's Interoperability FNPRM, regarding feasibility of establishment of a ten-digit telephone numbering system for Video Relay Services (VRS). Specifically, the Commission seeks to ensure that the record reflects current viewpoints and any recent technical, economic, and administrative developments relevant to establishing a numbering system for IP-based TRS.

DATES: Interested parties may file comments in this proceeding no later than April 8, 2008. Reply comments may be filed no later than April 18, 2008.

ADDRESSES: Interested parties may submit comments identified by [CG Docket Number 03-123 and/or DA 08-607], by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the Web site for submitting comments. For ECFS filers, in completing the transmittal screen, filers should include their full name, U.S. Postal service mailing address, and CG Docket No. 03-123. Parties also may submit an electronic comment by Internet e-mail. To get filing instructions, filers should send an e-mail to ecfs@fcc.gov, and include the following words in the body of the message, “get form <your e-mail address>.” A sample form and directions will be sent in response.

• Paper filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their comments on compact disc. The compact disc should be submitted, along with three paper copies, to: Dana Wilson, Consumer & Governmental Affairs Bureau, Disability Rights Office, 445 12th Street, SW., Room 3-C418, Washington, DC 20554. Such submission should be on a compact disc formatted in an IBM compatible format using Word 2003 or a compatible software. The compact disc should be accompanied by a cover letter and should be submitted in “read only” mode. The compact disc should be clearly labeled with the commenter's name, proceeding (CG Docket No. 03-123), type of pleading (comment or reply comment), date of submission, and the name of the electronic file on the compact disc. The label also should include the following phrase: “CD-ROM Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Gregory Hlibok, Consumer & Governmental Affairs Bureau, Disability Rights Office at (800) 311-4381 (voice/VRS), (202) 418-0431 (TTY), or e-mail at Gregory.Hlibok@fcc.gov.

SUPPLEMENTARY INFORMATION: This is a summary of the Commission's document DA 08-607. Pursuant to 47 CFR 1.415 and 1.419, interested parties may file comments and reply comments on or before the dates indicated in the Dates section. Pursuant to 47 CFR 1.1206, this matter shall be treated as a “permit-but-disclose” proceeding in which ex parte communications are subject to disclosure.

The full text of document DA 08-607 and copies of any subsequently filed documents in this matter will be available for public inspection and copying during regular business hours at the FCC Reference Information Center, Portals II, 445 12th Street, SW., Room CY-A257, Washington, DC 20554. Document DA 08-607 and copies of subsequently filed documents in this matter also may be purchased from the Commission's duplicating contractor at Portals II, 445 12th Street, SW., Room CY-B402, Washington, DC 20554; the contractor's Web site, http://www.bcpiweb.com; or by calling (800) 378-3160. Document DA 08-607 and subsequently filed documents in this matter also may be found by searching ECFS at http://www.fcc.gov/cgb/ecfs (insert CG Docket No. 03-123 into the Proceeding block).

To request materials in accessible formats for people with disabilities (Braille, large print, electronic files, audio format), send an e-mail to fcc504@fcc.gov or call the Consumer & Governmental Affairs Bureau at 202-418-0530 (voice), 202-418-0432 (TTY). Document DA 08-607 also can be downloaded in Word and Portable Document Format (PDF) at http://www.fcc.gov/cgb/dro/trs.html.

SYNOPSIS: On May 9, 2006, the Commission released Telecommunications Relay Services and Speech-to-Speech Services for Individuals with Hearing and Speech Disabilities, CG Docket No. 03-123, Declaratory Ruling and Further Notice of Proposed Rulemaking, FCC 06-57 (Interoperability FNPRM), published at 71 FR 30848, May 31, 2006. The Interoperability FNPRM, among other things, sought comment on the feasibility of establishing a global, uniform ten-digit telephone numbering system for VRS. The Commission now seeks to refresh the record on the numbering issues in order to ensure that the record reflects current viewpoints and any new developments that have been made since the deadline for filing comments in response to the Interoperability FNPRM, including any developments with respect to technical, economic, and administrative issues relevant to assigning users of all IP-based forms of TRS uniform and static end-point numbers linked to the NANP. In this regard, the Commission also seeks to refresh the record on issues directly related to numbering, including application of the “slamming” and other consumer protection rules (such as the Commission's Consumer Proprietary Network Information rules, local number portability rules, and number resource conservation).

Federal Communications Commission.
Nicole McGinnis,
Deputy Chief, Consumer & Governmental Affairs Bureau.

[FR Doc. E8-6223 Filed 3-26-08; 8:45 am]

BILLING CODE 6712-01-P